DEPARTMENT OF COMMERCE

Foreign-Trade Zones Board

[Order No. 1324]

Grant of Authority for Subzone Status General Electric Wind Energy and Energy Rentals (Wind Turbines); Pensacola, Florida

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Pensacola-Escambia County Promotion and Development Commission, grantee of Foreign-Trade Zone 249, has made application for authority to establish special-purpose subzone status at the wind turbine manufacturing plant of General Electric Wind Energy and Energy Rentals, located in Pensacola, Florida (FTZ Docket 50-2003, filed 9-25-2003; application amended 2-27-2004 to remove HTSUS Heading 7019 from the scope of authority);

Whereas, notice inviting public comment was given in the Federal Register (68 FR 57868, 10-7-2003); and,

Whereas, the Board adopts the findings and recommendations of the examiner's report, and finds that the requirements of the FTZ Act and Board's regulations are satisfied, and that approval of the application, as amended, is in the public interest;

Now, therefore, the Board hereby grants authority for subzone status at the wind turbine manufacturing plant of General Electric Wind Energy and Energy Rentals, located in Pensacola, Florida (Subzone 249A), at the location described in the application, subject to the FTZ Act and the Board's regulations, including § 400.28.

Signed at Washington, DC, this 2nd day of April, 2004.
James J. Jochum,
Assistant Secretary of Commerce for Import Administration, Alternate Chairman, Foreign-Trade Zones Board.

[FR Doc. 04-8804 Filed 4-16-04; 8:45 am]

BILLING CODE 3510-DS-P